DEPARTMENT OF ENERGY

Federal Energy Regulatory Commission

[Docket No. EC00-62-000]

Statoil Energy Trading, Inc.; Statoil Energy Services, Inc. and Amerada Hess Corporation; Notice Shortening Answer Period

March 16, 2000.

On March 8, 2000, the Commission issued a Notice of Filing, published March 16, 2000 (65 FR 14268), in the above-captioned proceeding. By this notice, the date for filing interventions and protests is hereby shortened to and including March 29, 2000.

David P. Boergers,
Secretary.

[FR Doc. 00-7033 Filed 3-21-00; 8:45 am]

BILLING CODE 6717-01-M